DEPARTMENT OF THE INTERIOR

Bureau of Land Management

[OR-958-1430-ET; GPO-02-0046; WAOR-22434, WAOR-22369]

Public Land Order No. 7515; Modification of Secretarial Orders Dated October 10, 1905 and February 2, 1912; Oregon

AGENCY: Bureau of Land Management, Interior.

ACTION: Public Land Order.

SUMMARY: This order modifies two Secretarial orders insofar as they affect 97.95 acres of public lands withdrawn for the Bureau of Reclamation's Yakima-Tieton Reclamation Project. The action will open the lands to exchange only.

EFFECTIVE DATE: March 14, 2002.

FOR FURTHER INFORMATION CONTACT: Charles R. Roy, BLM Oregon/Washington State Office, P.O. Box 2965, Portland, Oregon 97208-2965, 503-952-6189.

SUPPLEMENTARY INFORMATION: By virtue of the authority vested in the Secretary of the Interior by Section 204 of the Federal Land Policy and Management Act of 1976, 43 U.S.C. 1714 (1994), it is ordered as follows:

1. The Secretarial Orders dated November 10, 1905 and February 2, 1912, which withdrew lands for the Bureau of Reclamation's Yakima-Tieton Reclamation Project, are hereby modified insofar as they affect the following described public lands to allow for exchange in accordance with Section 206 of the Federal Land Policy and Management Act of October 21, 1976, as amended, 43 U.S.C. 1716 (1994):

Willamette Meridian

T. 14 N., R. 16 E.,

Sec. 12, SE¼SW¼.

T. 12 N., R. 17 E.,

Sec. 6, lot 10.

T. 13 N., R. 17 E.,

Sec. 10, SE¼NE¼ and E½E½SE¼SW¼NE¼;

Sec. 20, NE¼NW¼NW¼.

The areas described aggregate 97.95 acres in Yakima County.

2. The lands described in paragraph 1 are hereby made available for exchange in accordance with section 206 of the Federal Land Policy and Management Act of October 21, 1976, as amended by the Federal Land Exchange Facilitation Act of 1988, 43 U.S.C. 1716 (1994), subject to valid existing rights, the provisions of existing withdrawals, other segregation of record, and the requirements of applicable law.

Dated: February 15, 2002.
J. Steven Griles,
Deputy Secretary.

[FR Doc. 02-6119 Filed 3-13-02; 8:45 am]

BILLING CODE 4310-33-P